NATIONAL TRANSPORTATION SAFETY BOARD

Public Availability of FY 2010 Service Contract Inventory Analysis and FY 2011 Service Contract Inventory for the National Transportation Safety Board

AGENCY: National Transportation Safety Board.

ACTION: Notice of Public Availability of FY 2010 Service Contract Inventory Analysis and FY 2011 Service Contract Inventory.

SUMMARY: In accordance with Section 743 of Division C of the Consolidated Appropriations Act of 2010 (Pub. L. 111-117), the National Transportation Safety Board is publishing this notice to advise the public of the availability of the FY 2010 Service Contract Inventory Analysis and the FY 2011 Service Contract Inventory. The FY 2010 inventory analysis provides information on specific service contract actions that were analyzed as part of the FY 2010 inventory. The FY 2011 inventory provides information on service contract actions over $25,000 that were made in FY 2011. The inventory information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The National Transportation Safety Board has posted its FY 2011 inventory and FY 2010 inventory analysis at the following link: http://www.ntsb.gov/about/open.html.

FOR FURTHER INFORMATION CONTACT: Questions regarding the service contract inventory should be directed to Christopher Blumberg, Chief Acquisition and Lease Management Division, NTSB at (202) 314-6102 or christopher.blumbeg@ntsb.gov.

Dated: February 1, 2012.
Candi R. Bing,
Federal Register Liaison Officer.

[FR Doc. 2012-2657 Filed 2-6-12; 8:45 am]

BILLING CODE P